DEPARTMENT OF DEFENSE

Office of the Secretary

Defense Science Board

AGENCY: Department of Defense.

ACTION: Notice of Advisory Committee Meeting Cancellations.

SUMMARY: The Defense Science Board Task Force on Identification Technologies of the Future meeting scheduled for November 4-5, 2004, has been canceled.

Dated: October 28, 2004.
Jeannette Owings-Ballard,
OSD Federal Register Liaison Officer, Department of Defense.

[FR Doc. 04-24471 Filed 11-2-04; 8:45 am]

BILLING CODE 5001-06-P